DEPARTMENT OF TRANSPORTATION

Federal Aviation Administration

14 CFR Part 71

[Docket No. FAA-2017-0295; Airspace Docket No. 16-AWP-2]

Establishment of Class E Airspace; Kaunakakai, HI

AGENCY: Federal Aviation Administration (FAA), DOT.

ACTION: Final rule, correction.

SUMMARY: This action corrects a final rule published in the Federal Register of October 11, 2017, that establishes Class E airspace and amends Class D and E airspace at Molokai Airport, Kaunakakai, HI. The airspace description for the airport in Class E airspace extending upward from 700 feet above the surface contained the following wording in error: “That airspace extending upward from the surface . . .” It is removed and replaced by “That airspace extending upward from 700 feet above the surface . . . .”

DATES: Effective date 0901 UTC December 7, 2017. The Director of the Federal Register approves this incorporation by reference action under Title 1, Code of Federal Regulations, part 51, subject to the annual revision of FAA Order 7400.11 and publication of conforming amendments.

FOR FURTHER INFORMATION CONTACT: Tom Clark, Federal Aviation Administration, Operations Support Group, Western Service Center, 1601 Lind Avenue SW., Renton, WA 98057; telephone (425) 203-4511.

SUPPLEMENTARY INFORMATION:

History

The FAA published a final rule in the Federal Register (82 FR 47104, October 11, 2017) Docket No. FAA-2017-0295 establishing Class E airspace and amending Class D and Class E airspace at Molokai Airport, Kaunakakai, HI. Subsequent to publication, the FAA identified a clerical error in the legal description of the Class E airspace extending upward from 700 feet or more above the surface at Molokai Airport. This correction changes the words “. . . from the surface . . .” to read “. . . from 700 feet above the surface . . .”.

Correction to Final Rule

Accordingly, pursuant to the authority delegated to me, in the Federal Register of October 11, 2017 (82 FR 47104) FR Doc. FR Doc. 2017-21785, Establishment of Class E Airspace and Amendment of Class D and Class E Airspace; Kaunakakai, HI, is corrected as follows:

§ 71.1 [Amended]

AWP HI E5 Kaunakakai, HI [Corrected]

On page 47105, column 3, lines 10 and 11, the words “That airspace extending upward from the surface” are corrected to read “That airspace extending upward from 700 feet above the surface”.

Issued in Seattle, Washington, on November 21, 2017.
Brian J. Johnson,
Acting Manager, Operations Support Group, Western Service Center.

[FR Doc. 2017-26203 Filed 12-5-17; 8:45 am]

BILLING CODE 4910-13-P